DEPARTMENT OF COMMERCE

National Oceanic and Atmospheric Administration

[I.D. 102904C]

Endangered and Threatened Species; Take of Anadromous Fish

AGENCY: National Marine Fisheries Service (NMFS), National Oceanic and Atmospheric Administration (NOAA), Commerce.

ACTION: Receipt of applications to renew and modify permit 1166 and request for comment.

SUMMARY: Notice is hereby given that NMFS has received an application to renew a permit for scientific research from A.A. Rich and Associates (AAR) in San Anselmo, California (1166). The permit would affect federally endangered Sacramento River winter-run Chinook salmon and Southern California steelhead, and threatened Central Valley steelhead, Central California Coast steelhead, and Central California Coast coho salmon. This document serves to notify the public of the availability of the permit applications for review and comment.

DATES: Written comments on the permit applications must be received no later than 5 p.m. Pacific Standard Time on December 15, 2004.

ADDRESSES: E-mailed comments on the permit applications must be sent to FRNpermits.SR@noaa.gov. The applications and related documents are available for review by appointment, for permit 1166: Protected Resources Division, NMFS, 777 Sonoma Avenue, Room 315, Santa Rosa, CA 95404 (ph: 707-575-6097, fax: 707-5783-435).

FOR FURTHER INFORMATION CONTACT: Jeffrey Jahn at phone number 707-575-6097, or e-mail: Jeffrey.Jahn@noaa.gov

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Sacramento River winter-run Chinook salmon (Oncorhynchus tshawytscha) and Southern California steelhead (O. mykiss), threatened Central Valley steelhead (O. mykiss), Central California Coast steelhead (O. mykiss), and Central California Coast coho salmon (O. kisutch).

Application Received

AAR requests to renew and modify a 5-year permit (1166) for take of juvenile Sacramento River winter-run Chinook salmon and Central Valley steelhead to conduct pre-project fish surveys on the San Joaquin River and Old River in California. AAR requests authorization for an estimated annual take of 30 juvenile Sacramento River winter-run Chinook salmon and 80 juvenile Central Valley steelhead, with no more than 5 percent unintentional mortality to result from capture by beach seine, scale samples, and release of fish.

AAR also requests take of juvenile Central California Coast steelhead and juvenile Central California Coast coho salmon to conduct pre- and post-project fish surveys, relocation activities, and fish monitoring activities in various streams in Marin, Sonoma and Mendocino counties. AAR requests authorization for an estimated annual take of 450 juvenile Central California Coast steelhead, and 50 juvenile Central California Coast coho salmon, with no more than 5 percent unintentional mortality to result from capture (dip net, seine, electrofishing) and release of fish.

In addition, AAR requests take of juvenile Southern California steelhead to conduct fish monitoring activities in Hilton Creek, tributary to the Santa Ynez River in Santa Barbara County. AAR requests authorization for an estimated annual take of 2 juvenile Southern California Coast steelhead with no more than 5 percent unintentional mortality to result from capture (dip net, seine, electrofishing) and release of fish.

Dated: November 9, 2004.
Phil Williams,
Chief, Endangered Species Division, Office of Protected Resources, National Marine Fisheries Service.

[FR Doc. 04-25316 Filed 11-12-04; 8:45 am]

BILLING CODE 3510-22-S